DEPARTMENT OF ENERGY

Federal Energy Regulatory Commission

[Docket Nos. CP22-162-000, CP18-549-001]

Equitrans, L.P.; Notice of Schedule for the Preparation of an Environmental Assessment for the Swarts Complex Abandonment Project Amendment

On April 12, 2022, Equitrans, L.P. (Equitrans) filed an application in Docket Nos. CP22-162-000 and CP18-549-001 requesting a limited amendment to the existing abandonment authorization issued by the Federal Energy Regulatory Commission (Commission or FERC) on March 20, 2019. The proposed project is known as the Swarts Complex Abandonment Project Amendment (Project) and would change Equitrans' abandonment method for five injection and withdrawal (I/W) wells in the Swarts Complex. Equitrans previously proposed abandonment-by-sale and currently proposes to plug-and-abandon the five wells to comply with Pennsylvania Department of Environmental Protection's (PADEP) regulations.

On April 15, 2022, the Commission issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹

¹ 40 CFR 1501.10 (2020).

Schedule for Environmental Review

Issuance of EA—September 2, 2022.

90-day Federal Authorization Decision Deadline ²—December 1, 2022.

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

The Commission authorization issued on March 20, 2019 in Docket No. CP18-549-000 authorized Equitrans to abandon eighteen I/W wells in the Swarts Complex by sale, abandon the associated well lines in place, and abandon any associated appurtenant facilities. Since the issuance of the Abandonment Authorization, Equitrans has abandoned four of the originally authorized eighteen I/W wells by sale to CONSOL Pennsylvania Coal Company LLC, CONSOL Mining Company LLC, and CNX Gas Company LLC (collectively, CONSOL). The PADEP's setback regulation requires wells within 2,000 feet of coal mining activities to be plugged/abandoned or reconditioned. Equitrans, to comply with the PADEP's regulations, now proposes to perform the plugging and abandonment of five of the remaining fourteen wells itself rather than transferring those responsibilities to CONSOL. Specifically, Equitrans now proposes to plug and abandon I/W wells 603791, 603792, 603793, 603795, and 603797, and abandon in place the pipelines associated with the five wells. Equitrans also proposes to disconnect and remove aboveground appurtenances along with a portion of the well lines that are within each well site workspace.

Background

On April 19, 2022, the Commission issued a Notice of Scoping Period Requesting Comments on Environmental Issues for the Proposed Swarts Complex Abandonment Project Amendment (Notice of Scoping). The Notice of Scoping was sent to affected landowners; federal, state, and local government agencies; elected officials; environmental and public interest groups; Native American tribes; other interested parties; and local libraries and newspapers. In response to the Notice of Scoping, the Commission has not received any comments to date. Any substantive comment filed in response to the Notice of Scoping will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” excluding the last three digits (i.e., CP22-162 or CP18-549), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: May 19, 2022.
Debbie-Anne A. Reese,
Deputy Secretary.

[FR Doc. 2022-11240 Filed 5-24-22; 8:45 am]

BILLING CODE 6717-01-P